DEPARTMENT OF COMMERCE

Foreign-Trade Zones Board

[B-60-2021]

Foreign-Trade Zone (FTZ) 171—Liberty County, Texas; Notification of Proposed Production Activity; CCZJV-GPX (Pipe Spools and Valves), Baytown, Texas

CCZJV-GPX submitted a notification of proposed production activity to the FTZ Board for its facility in Baytown, Texas. The notification conforming to the requirements of the regulations of the FTZ Board (15 CFR 400.22) was received on August 24, 2021.

The CCZJV-GPX facility is located within FTZ 171. The facility will be used for production of pipe spools and valves. Pursuant to 15 CFR 400.14(b), FTZ activity would be limited to the specific foreign-status materials/components and specific finished products described in the submitted notification (as described below) and subsequently authorized by the FTZ Board.

Production under FTZ procedures could exempt CCZJV-GPX from customs duty payments on the foreign-status materials/components used in export production. On its domestic sales, for the foreign-status materials/components noted below, CCZJV-GPX would be able to choose the duty rates during customs entry procedures that apply to seamless or welded stainless steel pipe spools, and ductile iron, carbon, and stainless steel piping balls, gate valves, and check valves (duty rate ranges from duty-free to 5.6%). CCZJV-GPX would be able to avoid duty on foreign-status components which become scrap/waste. Customs duties also could possibly be deferred or reduced on foreign-status production equipment.

The materials/components sourced from abroad may include: Steel pipe (seamless iron or nonalloy; welded carbon; stainless); flanges (stainless steel; stainless steel not processed after forging; carbon steel); butt-welded carbon steel fittings; carbon steel pipe fittings; butt-welded pipe fittings (iron or nonalloy steel; alloy steel (except stainless steel)); forged pipe fittings (iron or nonalloy steel); and, actuators (motorized, pneumatic, hydraulic) (duty rate ranges from duty-free to 6.2%). The request indicates that certain components are subject to various antidumping/countervailing duty (AD/CVD) orders if imported from certain countries. The FTZ Board's regulations (15 CFR 400.14(e)) require that merchandise subject to AD/CVD orders, or items which would be otherwise subject to suspension of liquidation under AD/CVD procedures if they entered U.S. customs territory, be admitted to the zone in privileged foreign (PF) status (19 CFR 146.41). The request also indicates that certain materials/components are subject to duties under Section 232 of the Trade Expansion Act of 1962 (Section 232) or Section 301 of the Trade Act of 1974 (Section 301), depending on the country of origin. The applicable Section 232 and Section 301 decisions require subject merchandise to be admitted to FTZs in PF status.

Public comment is invited from interested parties. Submissions shall be addressed to the Board's Executive Secretary and sent to: ftz@trade.gov. The closing period for their receipt is October 13, 2021.

A copy of the notification will be available for public inspection in the “Reading Room” section of the Board's website, which is accessible via www.trade.gov/ftz.

For further information, contact Juanita Chen at juanita.chen@trade.gov or 202-482-1378.

Dated: August 31, 2021.
Andrew McGilvray,
Executive Secretary.

[FR Doc. 2021-19135 Filed 9-2-21; 8:45 am]

BILLING CODE 3510-DS-P